DEPARTMENT OF COMMERCE

International Trade Administration

[A-427-814]

Stainless Steel Sheet and Strip in Coils from France: Extension of Time Limit for the Final Results of the Antidumping Duty Administrative Review

AGENCY: Import Administration, International Trade Administration, Department of Commerce.

ACTION: Notice of extension of time limit for the final results of antidumping duty administrative review.

SUMMARY: The Department of Commerce (“the Department”) is extending the time limit for the final results of the review of stainless steel sheet and strip in coils from France. This review covers the period July 1, 2000, through June 30, 2001.

DATES: EFFECTIVE DATE: December 12, 2002.

FOR FURTHER INFORMATION CONTACT: Alex Villanueva at (202) 482-3208; Office of AD/CVD Enforcement, Group III, Office 9, Import Administration, International Trade Administration, U.S. Department of Commerce, 14th Street and Constitution Avenue, N.W., Washington, D.C. 20230.

SUPPLEMENTARY INFORMATION:

Statutory Time Limits

Section 751(a)(3)(A) of the Tariff Act of 1930, as amended (“the Act”), requires the Department of Commerce (“the Department”) to issue the final results of an antidumping duty investigation within 120 days of the date on which the preliminary results are published.

However, if the Department concludes that it is not practicable to issue the results by the original deadline, it may extend the 120-day period to 180 days.

Background

On October 1, 2001, the Department published a notice of initiation of the administrative review of stainless steel sheet and strip in coils from France, covering the period July 1, 2000 through June 30, 2001 (64 FR 49924). See Notice of Initiation of Antidumping and Countervailing Duty Administrative Reviews and Requests for Revocation in Part, 64 FR 49924 (October 1, 2001). The preliminary results were published in the Federal Register on August 7, 2002. See Notice of Preliminary Results of Antidumping Duty Administrative Review: Stainless Steel Sheet and Strip in Coils from France (“Preliminary Results”), 67 FR 51210 (August 7, 2002). The current due date for the final results is December 5, 2002.

Extension of Time Limits for the Final Results

Due to the complexity of issues, such as home-market affiliated downstream sales, U.S. further manufacturing sales and complicated cost accounting issues present in this administrative review, it is not practicable to complete this review within the original time limit. Therefore, the Department has postponed the deadline for issuing the final results until December 18, 2002, which is 133 days after publication of the Preliminary Results.

Dated: December 4, 2002.
Joseph A. Spetrini,
Deputy Assistant Secretary for Import Administration, Group III.

[FR Doc. 02-31372 Filed 12-11-02; 8:45 am]

BILLING CODE 3510-DS-S